DEPARTMENT OF EDUCATION

[Docket No.: ED-2021-SCC-0167]

2020/22 Beginning Postsecondary Students (BPS:20/22) Field Test; Correction

AGENCY: National Center for Education Statistics (NCES), Institute of Education Sciences, Department of Education (ED) .

ACTION: Correction notice.

On December 15, 2021, the U.S. Department of Education published a 30-day comment period notice in the Federal Register with FR DOC# 2021-27084 (Page 71252, Column 3; Page 71253, Column 1, Column 2) seeking public comment for an information collection entitled, “2020/22 Beginning Postsecondary Students (BPS:20/22) Field Test”. The title is incorrect. The correct title is 2020/22 Beginning Postsecondary Students (BPS:20/22) Full Scale Study.

The PRA Coordinator, Strategic Collections and Clearance, Office of the Chief Data Officer, Office of Planning, Evaluation and Policy Development, hereby issues a correction notice as required by the Paperwork Reduction Act of 1995.

Dated: December 15, 2021.
Stephanie Valentine,
PRA Coordinator, Strategic Collections and Clearance, Office of the Chief Data Officer, Office of Planning, Evaluation and Policy Development.

[FR Doc. 2021-28059 Filed 12-27-21; 8:45 am]

BILLING CODE 4000-01-P